DEPARTMENT OF VETERANS AFFAIRS

Research Advisory Committee on Gulf War Illnesses

Notice of Meeting

The Department of Veterans Affairs (VA) gives notice under Pub. L. 92-463 (Federal Advisory Committee Act) that the Research Advisory Committee on Gulf War Veterans' Illnesses will meet on October 28-29, 2002, at the Department of Veterans Affairs, 810 Vermont Avenue, NW., Room 230, Washington, DC. The meeting on October 28 will convene at 8:30 a.m. and adjourn at 5:30 p.m. The meeting on October 29 will convene at 8 a.m. and adjourn at 4 p.m. Both meetings will be open to the public.

The purpose of the Committee is to provide advice and make recommendations to the Secretary of Veterans Affairs on proposed research studies, research plans and research strategies relating to the health consequences of military service in the Southwest Asia theater of operations during the Persian Gulf War.

On October 28, the Committee will hear presentations on and discuss treatments and neurological mechanisms. On October 29, the panel will hear presentations on and discuss marker studies, merging databases and future health risks. The Committee will also develop recommendations and consider future topics. Time will be available for public comment on both days.

Members of the public may submit written statements for the Committee's review to Ms. Laura O'Shea, Committee Manager, Department of Veterans Affairs (008A1), 810 Vermont Avenue, NW., Washington, DC 20420. Any member of the public wishing future information should contact Ms. Laura O'Shea at (202) 273-5031.

Dated: October 9, 2002.
By direction of the Secretary.
Nora E. Egan,
Committee Management Officer.

[FR Doc. 02-26245 Filed 10-15-02; 8:45 am]

BILLING CODE 8320-01-M